DEPARTMENT OF COMMERCE

National Oceanic and Atmospheric Administration

[RTID 0648-XD002]

Atlantic Coastal Fisheries Cooperative Management Act Provisions; General Provisions for Domestic Fisheries; Application for Exempted Fishing Permit

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an exempted fishing permit renewal application from the Massachusetts Division of Marine Fisheries contains all of the required information and warrants further consideration. The exempted fishing permit would allow federally permitted fishing vessels to fish outside fishery regulations in support of exempted fishing activities proposed by the applicant. Regulations under the Magnuson-Stevens Fishery Conservation and Management Act and the Atlantic Coastal Fisheries Cooperative Management Act require publication of this notice to provide interested parties the opportunity to comment on applications for proposed exempted fishing permits.

DATES: Comments must be received on or before June 12, 2023.

ADDRESSES: You may submit written comments by any of the following methods:

• Email: NMFS.GAR.EFP@noaa.gov. Include in the subject line “Comments on MA DMF Ventless Trap EFP.” If you cannot submit a comment through this method, please contact Allison Murphy at (978) 281-9122, or email at allison.murphy@noaa.gov.

FOR FURTHER INFORMATION CONTACT: Allison Murphy, Fishery Policy Analyst, 978-281-9122, allison.murphy@noaa.gov.

SUPPLEMENTARY INFORMATION: The Massachusetts Division of Marine Fisheries (MA DMF) submitted a complete application for an exempted fishing permit (EFP) to conduct commercial fishing activities that the regulations would otherwise restrict. This EFP would exempt the participating vessels from the following Federal regulations:

Table 1—Requested Exemptions
CFR Citation | Regulation | Need for exemption
50 Part 697.21(c)(1) and (2) | Gear specification requirements for Lobster Management Area 1 for Area 2 | To allow for the use of traps without escape vents.
§ 697.19(a) and (b) | Trap limit requirements for Area 1 and 2 | To allow for trap limits to be exceeded.
§ 697.19(i) | Trap tag requirements | To allow for alternatively-tagged traps.
§§ 697.20(a)(2) 697.20(b)(2), 697.20(a)(3), and 697.20(b)(3) | Minimum and maximum carapace length requirements for Areas 1 and 2 | To allow sub-legal and over-sized lobsters to be landed for research purposes.
§ 697.20(g)(1) and (3) | V-notch possession requirement for Areas 1 and 2 | To allow landing of female lobsters for research purposes.
§ 697.20(d)(1) and (3) | Berried female possession requirements | To allow landing of egg-bearing female lobsters for research purposes.
§ 697.20(h)(1) | Minimum carapace width requirements | To allow sub-legal Jonah crabs to be landed for research purposes.
§§ 697.20(h)(2)(i) and (ii) | Berried female possession requirement | To allow landing of egg-bearing female Jonah crabs for research purposes.

Table 2—Project Summary
Project title | 2023 MA DMF Ventless Trap Survey
Institution | MA DMF.
Principal Investigator | Tracy Pugh.
Division action number | DA23-045.
Funding source | State funded.
Continuing project (yes/no) | Yes.
Project objectives | To provide fishery-independent data on lobster growth and abundance within Massachusetts State waters of statistical areas 514 and 538.
Initial application date | May 3, 2023.
Final application date | N/A.
Project Start | June 2023.
Project End | October 2023.
Project location | Statistical Areas 514 and 538.
Number of vessels | Up to 4.
Number of trips | Approximately 10.
Trip duration (days) | 1.
Total number of days | Approximately 40.
Gear type(s) | Lobster traps.
Number of tows or sets | n/a.
Duration of tows or sets | 3 days soak time.

Project Narrative

The purpose of this survey is to provide fishery-independent data on lobster growth and abundance within Massachusetts State waters of statistical areas 514 and 538. MA DMF funds this lobster abundance survey through their commercial and recreational lobster license fees. This survey has occurred annually since 2006. At least one MA DMF scientist would be on board for the sampling trips. MA DMF personnel would not be on board when traps are baited and deployed. Exemptions would not substantively chance vessel operations. All catch during sampling trips would be retained temporarily to collect biological data. MA DMF staff may collect lobster and/or Jonah crab, including undersized, oversized, v-notched, and egg-bearing lobsters. Collected samples would be used for research projects on growth and maturity. No catch from the experimental traps would be landed for sale. All gear would be Atlantic Large Whale Take Reduction Plan compliant. Survey traps will be separate from each vessel's commercial lobster traps and would be tagged as, “MADMF Research Traps.”

If approved, the applicant may request minor modifications and extensions to the EFP throughout the year. EFP modifications and extensions may be granted without further notice if they are deemed essential to facilitate the completion of the proposed research and have minimal impacts that do not change the scope or impact of the initially approved EFP request. Any fishing activity conducted outside the scope of the exempted fishing activity would be prohibited.

All comments received are a part of the public record and will generally be posted for public viewing in https://www.noaa.gov/organization/information-technology/foia-reading-room without change. All personal identifying information (e.g., name, address), confidential business information, or otherwise sensitive information submitted voluntarily by the sender will be publicly accessible. NMFS will accept anonymous comments (enter “anonymous” as the signature if you wish to remain anonymous).

Authority: 16 U.S.C. 1801 et seq.

Dated: May 22, 2023.
Ngagne Jafnar Gueye,
Acting Director, Office of Sustainable Fisheries, National Marine Fisheries Service.

[FR Doc. 2023-11235 Filed 5-25-23; 8:45 am]

BILLING CODE 3510-22-P